COMMITTEE FOR PURCHASE FROM PEOPLE WHO ARE BLIND OR SEVERELY DISABLED

Procurement List; Additions and Deletions

AGENCY: Committee for Purchase From People Who are Blind or Severely Disabled.

ACTION: Additions to and deletions from Procurement List.

SUMMARY: This action adds to the Procurement List a product and a service to be furnished by nonprofit agencies employing persons who are blind or have other severe disabilities, and deletes from the Procurement List a service previously furnished by such agencies.

DATES: Effective August 21, 2005.

ADDRESSES: Committee for Purchase From People Who are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION:

Additions

On May 27, 2005, the Committee for Purchase From People Who are Blind or Severely Disabled published notice (70 FR 30692) of proposed additions to the Procurement List.

After consideration of the material presented to it concerning capability of qualified nonprofit agencies to provide the products and services and impact of the additions on the current or most recent contractors, the Committee has determined that the product and service listed below are suitable for procurement by the Federal government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the government.

2. The action will result in authorizing small entities to furnish the product and service to the government.

3. There are no known regulatory alternatives which would accomplish the objectives of the Javits-Wagner-O'Day Act (41 U.S.C. 46-48c) in connection with the product and service proposed for addition to the Procurement List.

End of Certification

Accordingly, the following product and service are added to the Procurement List:

Product

Amazing Micro Mop Refill.

NSN: M.R. 1059-Amazing Micro Mop Refill.

NPA: The Lighthouse for the Blind, Inc. (Seattle Lighthouse), Seattle, Washington.

Contracting Activity: Defense Commissary Agency (DeCA), Fort Lee, Virginia.

Service

Service Type/Location: Custodial Services, Social Security Administration, 2401 Lind Street, Quincy, Illinois.

NPA: Transitions of Western Illinois, Inc., Quincy, Illinois.

Contracting Activity: GSA, Public Buildings Service, Region 5, Chicago, Illinois.

Deletion

On May 27, 2005, the Committee for Purchase From People Who are Blind or Severely Disabled published notice (70 FR 30692) of proposed deletions to the Procurement List.

After consideration of the relevant matter presented, the Committee has determined that the service listed below is no longer suitable for procurement by the Federal government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the government.

3. There are no known regulatory alternatives which would accomplish the objectives of the Javits-Wagner-O'Day Act (41 U.S.C. 46-48c) in connection with the service deleted from the Procurement List.

End of Certification

Accordingly, the following service is deleted from the Procurement List:

Service

Service Type/Location: Maintenance and Repair of Portable Light Towers, Basewide, Fort Hood, Texas.

NPA: Professional Contract Services, Inc., Austin, Texas.

Contracting Activity: Army III Corps and Ft Hood Contracting CMD, Ft. Hood, Texas.

G. John Heyer,
General Counsel.

[FR Doc. E5-3917 Filed 7-21-05; 8:45 am]

BILLING CODE 6353-01-P